DEPARTMENT OF THE INTERIOR

Fish and Wildlife Service

[FWS-HQ-WSFR-2024-N067; FF09W25000-256-FXGO1660SWXCHR1; OMB Control Number 1018-0100]

Agency Information Collection Activities; Submission to the Office of Management and Budget; Administrative Procedures for U.S. Fish and Wildlife Service Financial Assistance Programs

AGENCY: Fish and Wildlife Service, Interior.

ACTION: Notice of information collection; request for comment.

SUMMARY: In accordance with the Paperwork Reduction Act of 1995, we, the U.S. Fish and Wildlife Service (Service), are proposing to renew an information collection without change.

DATES: Interested persons are invited to submit comments on or before March 31, 2025.

ADDRESSES: Written comments and recommendations for the proposed information collection should be sent within 30 days of publication of this notice to https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0100” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA; 44 U.S.C. 3501 et seq.) and its implementing regulations at 5 CFR part 1320, all information collections require approval under the PRA. We may not conduct or sponsor, and you are not required to respond to, a collection of information unless it displays a currently valid Office of Management and Budget (OMB) control number.

On December 2, 2024, we published a proposed rule (RIN 1018-BB84, Administrative Requirements; Pittman-Robertson Wildlife Restoration and Dingell-Johnson Sport Fish Restoration Acts, Docket No. FWS-HQ-WSFR-2023-0125), in the Federal Register (89 FR 95590) announcing our request that OMB approve amendments to this information collection. In that proposed rule, we solicited comments for 60 days on the information collection requirements contained in that rule. This submission requests OMB renew the currently approved information collection, without change, in order to extend the expiration date of the collection while the Service finalizes the rulemaking under RIN 1018-BB84. Substantive comments received in response to that proposed rule will be addressed in our final rule for RIN 1018-BB84.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. We will include or summarize each comment in our request to OMB to approve this information collection request. Before including your address, phone number, email address, or other personal identifying information in your comment, you should be aware that your entire comment—including your personal identifying information—may be made publicly available at any time. While you can ask us in your comment to withhold your personal identifying information from public review, we cannot guarantee that we will be able to do so.

Abstract: We issue financial assistance through grants and cooperative agreement awards to individuals; commercial organizations; institutions of higher education; non-profit organizations; foreign entities; and State, local, and Tribal governments. The Service administers a wide variety of financial assistance programs, authorized by Congress to address the Service's mission, as listed in the System for Award Management (SAM) Assistance Listings, previously referred to as the Catalog of Federal Domestic Assistance. SAM provides public descriptions of assistance listings of Federal programs, projects, services, and activities that provide assistance or benefits to the American public. It contains financial and non-financial assistance programs administered by departments and establishments of the Federal Government. The SAM Assistance Listings are assigned unique numbers and provide information on program types, the specific type of assistance for each program, and the applicable financial assistance authorities for each program. See the Service's active listings on SAM.gov at https://sam.gov/assistance-listings.

The Service currently manages the following types of assistance programs:

• Formula Grants

• Project Grants

• Project Grants (Discretionary)

• Cooperative Agreements (Discretionary Grants)

• Direct Payments with Unrestricted Use

• Use of Property, Facilities, and Equipment

Some assistance programs are mandatory and award funds to eligible recipients according to a formula prescribed in law or regulation. Other programs are discretionary and award funds based on competitive selection and merit review processes. Mandatory award recipients must give us specific, detailed project information during the application process so that we may ensure that projects are eligible for the mandatory funding, are substantial in character and design, and comply with all applicable Federal laws. Applicants to discretionary programs must give us information as dictated by the program requirements and as requested in the notice of funding opportunity (NOFO), including that information that addresses ranking criteria. All recipients must submit financial and performance reports that contain information necessary for us to track costs and accomplishments.

The recipients' reports must adhere to schedules and rules in 2 CFR part 200, “Uniform Administrative Requirements, Cost Principles, and Audit Requirements for Federal Awards.” Part 200 prescribes the information that Federal agencies must collect, and the information the financial assistance applicants and recipients must provide to receive benefits under Federal financial assistance programs. The regulations in part 200 supports this information collection.

The Service provides technical and financial assistance to other Federal agencies, States, local governments, Native American Tribes, nongovernmental organizations, citizen groups, and private landowners for the conservation and management of fish and wildlife resources. The process begins with the submission of an application. The respective program reviews and prioritizes proposed projects based on their respective project selection criteria. Pending availability of funding, applicants can submit their application documents to the Service through the Federal Grants.gov website or through the Department's grants management system (currently the U.S. Department of Health and Human Services' GrantSolutions), when solicited by the Service through a funding opportunity.

As part of this collection of information, the Service collects the following types of information requiring approval under the PRA:

1. Application Package: We use the information provided in applications to: (1) determine eligibility under the authorizing legislation and applicable program regulations; (2) determine allowability of major cost items under the cost principles at 2 CFR part 200; (3) select those projects that will provide the highest return on the Federal investment; and (4) assist in compliance with laws, as applicable, such as the National Environmental Policy Act, the National Historic Preservation Act, and the Uniform Relocation Assistance and Real Property Acquisition Policies Act of 1970. The full application package (submitted by the applicant) generally includes the following:

• Required Federal financial assistance application forms (SF-424 suite of forms, as applicable to specified project).

• Project Narrative—generally includes items such as:

—Statement of need,

—Project goals and objectives,

—Methods used and timetable,

—Description of key personnel qualifications,

—Description of stakeholders or other relevant organizations/individuals involved and level of involvement,

—Project monitoring and evaluation plan, and/or

—Other pertinent project specific information.

• Pertinent project budget-related information—generally includes items such as:

—Budget justification,

—Indirect cost statement,

—Federally funded equipment list, and/or

—Certifications and disclosures.

2. Amendments: Recipients must provide written explanation and submit prior approval requests for budget or project plan revisions, reporting due date extensions, or other changes to approved award terms and conditions. The information provided by the recipient is used by the Service to determine the eligibility and allowability of activities and to comply with the requirements of 2 CFR part 200.

3. Reporting Requirements: Reporting requirements associated with financial assistance awards generally include the following types of reports:

• Federal financial reports,

• Performance reports, and

• Real property status reports, when applicable.

4. Recordkeeping Requirements: In accordance with 2 CFR 200.333, financial records, supporting documents, statistical records, and all other non-Federal entity records pertinent to a Federal award must be retained for a period of 3 years after the date of submission of the final expenditure report. Or, for Federal awards that are renewed quarterly or annually, from the date of the submission of the quarterly or annual financial report, respectively, as reported to the Federal awarding agency or pass-through entity (in the case of a subrecipient) (unless an exemption as described in 200.333 applies that requires retention of records longer than 3 years).

5. State Fish and Wildlife Agency Hunting and Sport Fishing License Certification: Respondents are the States, the Commonwealths of Puerto Rico and the Northern Mariana Islands, the District of Columbia, and the territories of Guam, the U.S. Virgin Islands, and American Samoa (collectively referred to as States). Annually, States provide hunting and sport fishing license data and certification per 50 CFR part 80 requirements. The Service uses the reported data to run the formulas in the Federal Aid in Wildlife Restoration Act (16 U.S.C. 669 et seq.) and the Federal Aid in Sport Fish Restoration Act (16 U.S.C. 777 et seq. except 777e-1 and g-1) for apportioning Wildlife Restoration and Sport Fish Restoration program funds among the States. The Service awards these apportioned funds under Assistance Listing (CFDA) programs 15.605, Sport Fish Restoration; 15.611, Wildlife Restoration and Basic Hunter Education; and 15.626, Enhanced Hunter Education and Safety.

The Service also publishes the collected data for the public on the Wildlife and Sport Fish Restoration Program web page (https://www.fws.gov/library/collections/final-apportionments-wildlife-restoration-and-sport-fish-restoration-funds). During Fiscal Year 2024, we apportioned $989,531,728 under the Wildlife Restoration Program and $381,827,198 under the Sport Fish Restoration Program. Currently, respondents report this data in our Wildlife Tracking and Reporting Actions for the Conservation of Species (TRACS) system. Electronic collection in Wildlife TRACS reduces reporting errors, expedites apportionment, enhances recordkeeping, and reduces data processing burdens on the respondents and on the Service.

Title of Collection: Administrative Procedures for U.S. Fish and Wildlife Service Financial Assistance Programs.

OMB Control Number: 1018-0100.

Form Number: None.

Type of Review: Extension of a currently approved collection.

Respondents/Affected Public: Individuals; commercial organizations; institutions of higher education; nonprofit organizations; foreign entities; and State, local, and Tribal governments.

Total Estimated Number of Annual Respondents: 14,711.

Total Estimated Number of Annual Responses: 16,024.

Estimated Completion Time per Response: Varies from 3 hours to 203 hours, depending on the activity.

Total Estimated Number of Annual Burden Hours: 391,670.

Respondent's Obligation: Required to obtain or retain a benefit.

Frequency of Collection: On occasion.

Total Estimated Annual Nonhour Burden Cost: None.

An agency may not conduct or sponsor, and a person is not required to respond to, a collection of information unless it displays a currently valid OMB control number.

The authority for this action is the Paperwork Reduction Act of 1995 (44 U.S.C. 3501 et seq.).

Madonna Baucum,
Information Collection Clearance Officer, U.S. Fish and Wildlife Service.

[FR Doc. 2025-03169 Filed 2-26-25; 8:45 am]

BILLING CODE 4333-15-P